DEPARTMENT OF AGRICULTURE

Forest Service

Notice of Proposed New Fee Site; Federal Lands Recreation Enhancement Act

AGENCY: Helena-Lewis & Clark National Forest, USDA, Forest Service.

ACTION: Notice of proposed new fee site.

SUMMARY: The Helena-Lewis & Clark National Forest is proposing to implement a new fee at the newly acquired AT&T cabin with a proposed fee of $45 per night.

This fee is only proposed and will be determined upon further analysis and public comment.

DATES: Comments will be accepted through January 14, 2019. Comments can be compiled, analyzed, and shared with the North-Central Montana Bureau of Land Management (BLM) Recreation Resource Advisory Council. The proposed effective date of implementation of the proposed new fee will be no earlier than six months after publication of this notice.

ADDRESSES: Lisa Stoeffler, Acting Forest Supervisor, Helena-Lewis & Clark National Forest, 2880 Skyway Drive, Helena, MT 59602 or email to lstoeffler@fs.fed.us.

FOR FURTHER INFORMATION CONTACT: Rory Glueckert, Forest Recreation Program Manager, Helena-Lewis & Clark National Forest at 406-495-3761 or rglueckert@fs.fed.us; Information about proposed fee changes can also be found on the Helena-Lewis & Clark National Forest website at http://www.fs.usda.gov/main/helena. Individuals who use telecommunication devices for the deaf (TDD) may call the Federal Information Relay Service (FIRS) at 1-800-877-8339 between 8 a.m. and 8 p.m., Eastern Standard Time, Monday through Friday.

SUPPLEMENTARY INFORMATION: The Federal Recreation Lands Enhancement Act (Title VII, Pub. L. 108-447) directed the Secretary of Agriculture to publish a six month advance notice in the Federal Register, whenever new recreation fee areas are established. Once public involvement is complete, these new fees will be reviewed by the BLM North Central Montana Recreation Resource Advisory Council prior to a final decision and implementation. Reasonable fees, paid by users of these sites and services, will help ensure that the Forest can continue maintaining and improving the sites for future generations. A market analysis of surrounding recreation sites with similar amenities indicates that the proposed fees are comparable and reasonable. Advance reservations for the AT&T Cabin will be available through www.recreation.gov or by calling 1-877-444-6777. The reservation service charge is $8 for reservations.

Dated: December 4, 2018.
Jennifer Eberlien,
Acting Associate Deputy Chief, National Forest System.

[FR Doc. 2018-26987 Filed 12-12-18; 8:45 am]

BILLING CODE 3411-15-P